DEPARTMENT OF AGRICULTURE

Agricultural Marketing Service

7 CFR Parts 1124 and 1131

[Docket No. AO-368-A32, AO-271-A37; DA-03-04]

Milk in the Pacific Northwest and Arizona-Las Vegas Marketing Areas; Notice of Hearing on Proposed Amendments to Tentative Marketing Agreements and Orders; Correction

7 CFR Part | Marketing area | AO Nos.
1124 | Pacific Northwest | AO-368-A32
1131 | Arizona-Las Vegas | AO-271-A37

AGENCY: Agricultural Marketing Service, USDA.

ACTION: Proposed rule; correction.

SUMMARY: The Agricultural Marketing Service is correcting the proposed rule that appeared in the Federal Register of August 6, 2003 (68 FR 46505), which gave notice of a public hearing to be held to consider proposals to amend the producer-handler provisions of the Arizona-Las Vegas and Pacific Northwest orders. The document was published with errors in the regulatory text regarding the amendments to the producer-handler definitions in § 1124.10 and § 1131.10. This docket corrects these errors.

FOR FURTHER INFORMATION CONTACT: Jack Rower, Marketing Specialist, Order Formulation and Enforcement Branch, USDA/AMS/Dairy Programs, STOP 0231-Room 2971, 1400 Independence Avenue, Washington, DC 20250-0231, (202) 720-2357, e-mail address jack.rower@usda.gov.

SUPPLEMENTARY INFORMATION: Background notice of hearing was published in the Federal Register on August 6, 2003 (68 FR 46505), containing 5 proposals to be considered at a public hearing scheduled to begin on September 23, 2003. As published, errors contained in proposals 1 and 3 are misleading and are in need of clarification.

1. On page 46506, third column, § 1124.10, paragraph (a)(3) introductory text is corrected to read as follows:

§ 1124.10 Producer-handler.

* * * * *

(a) * * *

(3) The producer-handler neither receives at its designated milk production resources and facilities nor receives, handles, processes, or distributes at or through any of its designated milk handling, processing, or distributing resources and facilities other source milk products for reconstitution into fluid milk products or fluid milk products derived from any source other than:

* * * * *

2. On page 46508, first column, § 1131.10, paragraph (a)(3) introductory text is corrected to read as follows:

§ 1131.10 Producer-handler.

* * * * *

(a) * * *

(3) The producer-handler neither receives at its designated milk production resources and facilities nor receives, handles, processes, or distributes at or through any of its designated milk handling, processing, or distributing resources and facilities other source milk products for reconstitution into fluid milk products or fluid milk products derived from any source other than:

* * * * *

Authority: 7 U.S.C. 601-674.

Dated: August 20, 2003.
A.J. Yates,
Administrator, Agricultural Marketing Service.

[FR Doc. 03-21787 Filed 8-25-03; 8:45 am]

BILLING CODE 3410-02-P